DEPARTMENT OF TRANSPORTATION

Federal Motor Carrier Safety Administration

[Docket No. FMCSA-2013-0174]

Qualification of Drivers; Exemption Applications; Vision

AGENCY: Federal Motor Carrier Safety Administration (FMCSA), DOT.

ACTION: Notice of applications for exemptions; request for comments.

SUMMARY: FMCSA announces receipt of applications from 33 individuals for exemption from the vision requirement in the Federal Motor Carrier Safety Regulations. They are unable to meet the vision requirement in one eye for various reasons. The exemptions would enable these individuals to operate commercial motor vehicles (CMVs) in interstate commerce without meeting the prescribed vision requirement in one eye.

DATES: Comments must be received on or before February 10, 2014.

ADDRESSES: You may submit comments bearing the Federal Docket Management System (FDMS) Docket No. FMCSA-2013-0174 using any of the following methods:

• Federal eRulemaking Portal: Go to http://www.regulations.gov. Follow the on-line instructions for submitting comments.

• Mail: Docket Management Facility; U.S. Department of Transportation, 1200 New Jersey Avenue SE., West Building Ground Floor, Room W12-140, Washington, DC 20590-0001.

• Hand Delivery: West Building Ground Floor, Room W12-140, 1200 New Jersey Avenue SE., Washington, DC, between 9 a.m. and 5 p.m., Monday through Friday, except Federal Holidays.

• Fax: 1-202-493-2251.

Instructions: Each submission must include the Agency name and the docket numbers for this notice. Note that all comments received will be posted without change to http://www.regulations.gov, including any personal information provided. Please see the Privacy Act heading below for further information.

Docket: For access to the docket to read background documents or comments, go to http://www.regulations.gov at any time or Room W12-140 on the ground level of the West Building, 1200 New Jersey Avenue SE., Washington, DC between 9 a.m. and 5 p.m., Monday through Friday, except Federal holidays. The FDMS is available 24 hours each day, 365 days each year. If you want acknowledgment that we received your comments, please include a self-addressed, stamped envelope or postcard or print the acknowledgement page that appears after submitting comments on-line.

Privacy Act: Anyone may search the electronic form of all comments received into any of our dockets by the name of the individual submitting the comment (or of the person signing the comment, if submitted on behalf of an association, business, labor union, etc.). You may review DOT's Privacy Act Statement for the Federal Docket Management System (FDMS) published in the Federal Register on January 17, 2008 (73 FR 3316).

FOR FURTHER INFORMATION CONTACT: Elaine M. Papp, Chief, Medical Programs Division, (202) 366-4001, fmcsamedical@dot.gov, FMCSA, Department of Transportation, 1200 New Jersey Avenue SE., Room W64-224, Washington, DC 20590-0001. Office hours are from 8:30 a.m. to 5 p.m., Monday through Friday, except Federal holidays.

SUPPLEMENTARY INFORMATION:

Background

Under 49 U.S.C. 31136(e) and 31315, FMCSA may grant an exemption from the Federal Motor Carrier Safety Regulations for a 2-year period if it finds “such exemption would likely achieve a level of safety that is equivalent to or greater than the level that would be achieved absent such exemption.” FMCSA can renew exemptions at the end of each 2-year period. The 33 individuals listed in this notice have each requested such an exemption from the vision requirement in 49 CFR 391.41(b)(10), which applies to drivers of CMVs in interstate commerce. Accordingly, the Agency will evaluate the qualifications of each applicant to determine whether granting an exemption will achieve the required level of safety mandated by statute.

Qualifications of Applicants

Trawn L. Andrews

Mr. Andrews, age 32, has had amblyopia in his right eye since birth. The visual acuity in his right eye is 20/50, and in his left eye, 20/20. Following an examination in 2013, his optometrist noted, “I certify that, in my medical opinion, this patient has sufficient vision to operate a commercial motor vehicle.” Mr. Andrews reported that he has driven straight trucks for 10 years, accumulating 325,000 miles, and tractor-trailer combinations for 10 years, accumulating 325,000 miles. He holds a Class A Commercial Driver's License (CDL) from North Carolina. His driving record for the last 3 years shows one crash, for which he was not cited and to which he did not contribute, and no convictions for moving violations in a CMV.

Jeffery A. Benoit

Mr. Benoit, 30, has had amblyopia in his left eye since childhood. The visual acuity in his right eye is 20/15, and in his left eye, 20/150. Following an examination in 2013, his optometrist noted, “In my optometric opinion, Jeffrey [sic] Benoit has sufficient vision to operate a commercial vehicle.” Mr. Benoit reported that he has driven tractor-trailer combinations for 7 years, accumulating 147,000 miles. He holds a Class A CDL from Vermont. His driving record for the last 3 years shows no crashes and no convictions for moving violations in a CMV.

Norvan D. Brown

Mr. Brown, 61, has a prosthetic left eye due to a traumatic incident in 2010. The visual acuity in his right eye is 20/20, and in his left eye, no light perception. Following an examination in 2013, his optometrist noted, “Mr. Brown is a long time self employed [sic] contractor who depends on his CDL for his livelihood. He has vast experience hauling his equipment. I believe with this experience and the positive way he has adapted to his monocular status, he should be granted a CDL or at least given the opportunity to drive with an instructor to further assess his ability.” Mr. Brown reported that he has driven straight trucks for 44 years, accumulating 1.32 million miles, and tractor-trailer combinations for 40 years, accumulating 600,000 miles. He holds a Class A CDL from Iowa. His driving record for the last 3 years shows no crashes and no convictions for moving violations in a CMV.

Thomas A. Busacca, Jr.

Mr. Busacca, 48, has had macular atrophy in his left eye since birth. The visual acuity in his right eye is 20/20, and in his left eye, counting fingers. Following an examination in 2013, his optometrist noted, “I am of the opinion that Mr. Busacca has sufficient vision to operate a commercial vehicle.” Mr. Busacca reported that he has driven straight trucks for 30 years, accumulating 1.5 million miles, and tractor-trailer combinations for 30 years, accumulating 1.5 million miles. He holds a Class A CDL from Florida. His driving record for the last 3 years shows no crashes and no convictions for moving violations in a CMV.

James A. Champion

Mr. Champion, 56, has had anterior ischemic optic neuropathy in his left eye since childhood. The visual acuity in his right eye is 20/20, and in his left eye, 20/100. Following an examination in 2013, his optometrist noted, “I believe that James has sufficient vision to perform the driving tasks that are required of him while operating a commercial vehicle.” Mr. Champion reported that he has driven tractor-trailer combinations for 11.5 years, accumulating 747,500 miles. He holds a Class A CDL from Washington. His driving record for the last 3 years shows no crashes and no convictions for moving violations in a CMV.

James C. Colbert

Mr. Colbert, 63, has complete loss of vision in his left eye due to a traumatic incident during childhood. The visual acuity in his right eye is 20/20, and in his left eye, no light perception. Following an examination in 2013, his ophthalmologist noted, “It is my opinion that Mr. Colbert has no ocular disease which should preclude him from obtaining a commercial driver's license. He essentially is a monocular patient, and has been one since childhood. He has apparently adapted quite well to being monocular, and according to him has a 25 year history as a driver for the City of Tallahassee without ever having an accident.” Mr. Colbert reported that he has driven buses for 23 years, accumulating 3.3 million miles. He holds a Class B CDL from Florida. His driving record for the last 3 years shows no crashes and no convictions for moving violations in a CMV.

Bobby R. Cox

Mr. Cox, 62, has had a corneal transplant in his left eye since 2001. The visual acuity in his right eye is 20/15, and in his left eye, 20/200. Following an examination in 2013, his optometrist noted, “Approximately 12 years ago Mr. Cox had a successful corneal transplant in his left eye . . . I feel Mr. Cox is capable of continuing to safely drive a commercial vehicle.” Mr. Cox reported that he has driven tractor-trailer combinations for 30 years, accumulating 3,000,000 miles. He holds a Class AM CDL from Tennessee. His driving record for the last 3 years shows one crash, for which he was cited, and two convictions for moving violations in a CMV.

Jackie K. Curlin

Mr. Curlin, 50, has had angle recession glaucoma in his left eye since 2000. The visual acuity in his right eye is 20/20, and in his left eye, 20/70. Following an examination in 2013, his ophthalmologist noted, “I do feel that Mr. Curlin has adequate and sufficient vision to drive a commercial vehicle, however, as previously stated, he does have decreased vision in the left eye from the previous trauma. Nothing can be done to improve this vision, but under binocular conditions, I feel he has sufficient vision to operate a commercial vehicle.” Mr. Curlin reported that he has driven straight trucks for 13 years, accumulating 195,000 miles. He holds a Class DMB CDL from Kentucky. His driving record for the last 3 years shows no crashes and no convictions for moving violations in a CMV.

Justin W. Demarchi

Mr. Demarchi, 36, has had amblyopia and small angle esotropia in his left eye since childhood. The visual acuity in his right eye is 20/20, and in his left eye, 20/60. Following an examination in 2013, his optometrist noted, “In my opinion, Justin has sufficient visual acuity, visual fields, and color vision to perform the driving tasks required to operate a commercial vehicle.” Mr. Demarchi reported that he has driven straight trucks for 19 years, accumulating 228,000 miles, and tractor-trailer combinations for 19 years, accumulating 9,500 miles. He holds a Class A CDL from Ohio. His driving record for the last 3 years shows no crashes and no convictions for moving violations in a CMV.

Gary Goostree

Mr. Goostree, 40, has had a macular scar in his right eye since childhood. The visual acuity in his right eye is 20/400, and in his left eye, 20/15. Following an examination in 2013, his optometrist noted, “Gary Goostree has sufficient vision to perform the driving tasks required to operate a commercial vehicle.” Mr. Goostree reported that he has driven straight trucks for 18 years, accumulating 54,000 miles, and tractor-trailer combinations for 18 years, accumulating 54,000. He holds a Class A CDL from Ohio. His driving record for the last 3 years shows no crashes and no convictions for moving violations in a CMV.

Jimmey C. Harris

Mr. Harris, 61, has had optic atrophy in his right eye since 1999. The visual acuity in his right eye is 20/400, and in his left eye, 20/20. Following an examination in 2013, his optometrist noted, “In my medical opinion, Mr. Harris has sufficient binocular vision to perform the driving tasks required to operate a commercial vehicle based on the Federal Motor Carrier Safety Regulation (FMCSR) Vision- 49 CFR 391.41(b)(10).” Mr. Harris reported that he has driven tractor-trailer combinations for 6 years, accumulating 660,000 miles. He holds a Class A CDL from Texas. His driving record for the last 3 years shows no crashes and no convictions for moving violations in a CMV.

David G. Henry

Mr. Henry, 50, has had dense amblyopia in his right eye since birth. The visual acuity in his right eye is 20/150, and in his left eye, 20/20. Following an examination in 2013, his ophthalmologist noted, “In my opinion he should be able to drive commercial vehicle with glasses without difficulty as long as nothing were to hinder his only good eye.” Mr. Henry reported that he has driven straight trucks for 10 years, accumulating 260,000 miles, and tractor-trailer combinations for 1 year, accumulating 15,000 miles. He holds a Class A CDL from Texas. His driving record for the last 3 years shows no crashes and no convictions for moving violations in a CMV.

Rogelio C. Hernandez

Mr. Hernandez, 46, has had optic pit maculopathy in his right eye since 2008. The visual acuity in his right eye is 20/126, and in his left eye, 20/20. Following an examination in 2013, his ophthalmologist noted, “In my medical opinion, patient has sufficient vision to perform the driving tasks required to operate a commercial vehicle.” Mr. Hernandez reported that he has driven straight trucks for 12 years, accumulating 420,000 miles, and tractor-trailer combinations for 12 years, accumulating 420,000 miles. He holds an operator's license from California. His driving record for the last 3 years shows no crashes and no convictions for moving violations in a CMV.

Michael J. Hoskins

Mr. Hoskins, 53, has a prosthetic right eye due to a traumatic incident in 1993. The visual acuity in his right eye is no light perception, and in his left eye, 20/20. Following an examination in 2013, his optometrist noted that, in his medical opinion, Mr. Hoskins has sufficient vision to operate a commercial motor vehicle. Mr. Hoskins reported that he has driven straight trucks for 35 years, accumulating 183,750 miles, and tractor-trailer combinations for 30 years, accumulating 82,500 miles. He holds a Class A CDL from Kansas. His driving record for the last 3 years shows no crashes and no convictions for moving violations in a CMV.

Zion Irizarry

Mr. Irizarry, 64, has complete loss of vision in his right eye due to a traumatic incident during childhood. The visual acuity in his right eye is light perception, and in his left eye, 20/20. Following an examination in 2013, his optometrist noted, “That being said, the patient has sufficient vision in his left eye to perform the driving tasks required for operation of a commercial vehicle.” Mr. Irizarry reported that he has driven buses for 6 years, accumulating 108,000 miles. He holds a Class C CDL from Nevada. His driving record for the last 3 years shows no crashes and one conviction for a moving violation in a CMV; he failed to obey a traffic control light.

Mohamed H. Issak

Mr. Issak, 24, has had amblyopia in his left eye since childhood. The visual acuity in his right eye is 20/20, and in his left eye, 20/60. Following an examination in 2013, his ophthalmologist noted, “He has had time to adjust to this visual deficiency, thus in my medical opinion, he has sufficient vision to perform the driving tasks required to operate a commercial vehicle.” Mr. Issak reported that he has driven buses for 3 years, accumulating 58,500 miles. He holds a Class A CDL from Kansas. His driving record for the last 3 years shows no crashes and no convictions for moving violations in a CMV.

Craig B. Jacques

Mr. Jacques, 62, has had macular degeneration in his right eye since 2008. The visual acuity in his right eye is 20/200, and in his left eye, 20/20. Following an examination in 2013, his ophthalmologist noted, “As the patient has been functioning well, it is my medical opinion that he has sufficient vision to continue to perform his current driving tasks and operate a commercial vehicle.” Mr. Jacques reported that he has driven straight trucks for 13 years, accumulating 195,000 miles. He holds an operator's license from New York. His driving record for the last 3 years shows no crashes and no convictions for moving violations in a CMV.

William D. Jackson

Mr. Jackson, 58, has had amblyopia in his right eye since childhood. The visual acuity in his right eye is 20/300, and in his left eye, 20/20. Following an examination in 2013, his optometrist noted, “I verify that William Jackson has sufficient vision to drive commercial vehicles safely.” Mr. Jackson reported that he has driven straight trucks for 38 years, accumulating 380,000 miles, and tractor-trailer combinations for 33 years, accumulating 792,000 miles. He holds a Class A CDL from Minnesota. His driving record for the last 3 years shows no crashes and no convictions for moving violations in a CMV.

Juan J. Luna

Mr. Luna, 45, has had amblyopia in his left eye since childhood. The visual acuity in his right eye is 20/20, and in his left eye, 20/200. Following an examination in 2013, his ophthalmologist noted, “Amblyopia . . . stable . . . good color vision . . . may operate a commercial vehicle.” Mr. Luna reported that he has driven straight trucks for 5 years, accumulating 150,000 miles, and tractor-trailer combinations for 5 years, accumulating 275,000 miles. He holds a Class A CDL from California. His driving record for the last 3 years shows no crashes and no convictions for moving violations in a CMV.

Robert Mollicone

Mr. Mollicone, 43, has had a retinal detachment in his left eye since 2000. The visual acuity in his right eye is 20/15, and in his left eye, 20/100. Following an examination in 2013, his optometrist noted, “I certify that Mr. Mollicone's [sic] has sufficient vision to perform the driving tasks required to operate a commercial vehicle.” Mr. Mollicone reported that he has driven straight trucks for 5 years, accumulating 100,000 miles, and tractor-trailer combinations for 23 years, accumulating 598,000 miles. He holds a Class A CDL from Florida. His driving record for the last 3 years shows no crashes and no convictions for moving violations in a CMV.

Christopher D. Moore

Mr. Moore, 46, has had amblyopia in his left eye since birth. The visual acuity in his right eye is 20/15, and in his left eye, 20/200. Following an examination in 2013, his optometrist noted, “Because his poor vision in the left eye has been lifelong, he has compensated well for it and in my opinion it should not affect his ability to perform the driving tasks required to operate a commercial vehicle.” Mr. Moore reported that he has driven straight trucks for 21 years, accumulating 1.47 million miles. He holds a Class B CDL from North Carolina. His driving record for the last 3 years shows no crashes and no convictions for moving violations in a CMV.

Elmore Nicholson, Jr.

Mr. Nicholson, 35, has had corneal neovascularization in his left eye since birth. The visual acuity in his right eye is 20/20 and in his left eye, 20/50. Following an examination in 2013, his optometrist noted, “In my medical opinion he has sufficient vision to perform the driving tasks required to operate a commercial vehicle.” Mr. Nicholson reported that he has driven tractor-trailer combinations for 8 years, accumulating 832,000 miles. He holds an operator's license from Alabama. His driving record for the last 3 years shows no crashes and no convictions for moving violations in a CMV.

Michael Pace

Mr. Pace, 47, has a macular scar in his right eye due to a traumatic injury during childhood. The visual acuity in his right eye is 20/80, and in his left eye, 20/20. Following an examination in 2013, his optometrist noted, “Mr. Pace has binocular visual acuity of 20/20. His right eye uncorrected visual acuity is 20/200 and left eye is 20/20 which meets the documented vision requirements stating he must have distant binocular acuity of at least 20/40 . . . Based on these findings he should meet all the requirements necessary to operate a commercial vehicle.” Mr. Pace reported that he has driven straight trucks for 3 years, accumulating 150,000 miles, tractor-trailer combinations for 7 years, accumulating 3.5 million miles, and buses for 3 years, accumulating 45,000. He holds a Class A CDL from Texas. His driving record for the last 3 years shows no crashes and no convictions for moving violations in a CMV.

Ernest S. Parsons, Jr.

Mr. Parsons, 69, has had strabismic amblyopia in his right eye since birth. The visual acuity in his right eye is 20/100, and in his left eye, 20/20. Following an examination in 2013, his optometrist noted, “I certify that Mr. Parsons [sic] vision is sufficient to perform the driving tasks required to operate a commercial motor vehicle.” Mr. Parsons reported that he has driven straight trucks for 39 years, accumulating 975,000 miles, tractor-trailer combinations for 25 years, accumulating 750,000 miles. He holds a Class A CDL from New York. His driving record for the last 3 years shows no crashes and no convictions for moving violations in a CMV.

James C. Paschal, Jr.

Mr. Paschal, 56, has had a congenital cataract in his left eye since birth. The visual acuity in his right eye is 20/20, and in his left eye, hand motion. Following an examination in 2013, his optometrist noted, “Mr. Paschal has sufficient vision to operate a commercial vehicle.” Mr. Paschal reported that he has driven straight trucks for 36 years, accumulating 54,000 miles. He holds an operator's license from Georgia. His driving record for the last 3 years shows no crashes and no convictions for moving violations in a CMV.

Lee E. Perry

Mr. Perry, 65, has had a macular hole in his left eye since 1993. The visual acuity in his right eye is 20/20, and in his left eye, 20/200. Following an examination in 2013, his ophthalmologist noted, “In my medical opinion, Mr. Perry has sufficient vision to operate any sort of commercial vehicle and perform all necessary driving tasks.” Mr. Perry reported that he has driven straight trucks for 1 year, accumulating 19,000 miles, and buses for 13 years, accumulating 338,000 miles. He holds a Class BM CDL from Alabama. His driving record for the last 3 years shows no crashes and no convictions for moving violations in a CMV.

Harold D. Pressley

Mr. Pressley, 49, has had complete loss of vision in his left eye since birth. The visual acuity in his right eye is 20/15, and in his left eye, no light perception. Following an examination in 2013, his optometrist noted, “VA OD 20/15 . . . VA OS No Light Perception . . . congenital anomaly since birth due to hx: condition is stable . . . Pt [sic] is able to operate a commercial vehicle according to VA's [sic].” Mr. Pressley reported that he has driven straight trucks for 20 years, accumulating 1.5 million miles, buses for 12 years, accumulating 240,000 miles. He holds a Class BM CDL from Texas. His driving record for the last 3 years shows no crashes and no convictions for moving violations in a CMV.

Thomas H. Randall

Mr. Randall, 52, has had microphthalmia, amblyopia, and aphakia in his right eye since childhood. The visual acuity in his right eye is hand motion, and in his left eye, 20/20. Following an examination in 2013, his optometrist noted, “Mr. Randall has a longstanding congenital deficiency in his right eye which he is well adapted to and should have no problem operating a commercial vehicle.” Mr. Randall reported that he has driven straight trucks for 34 years, accumulating 340,000 miles, and buses for 2 years, accumulating 30,000 miles. He holds an operator's license from Minnesota. His driving record for the last 3 years shows no crashes and no convictions for moving violations in a CMV.

David T. Rueckert

Mr. Rueckert, 53, has had complete loss of vision in his right eye since birth. The visual acuity in his right eye is no light perception, and in his left eye, 20/20. Following an examination in 2013, his optometrist noted that Mr. Rueckert does not have any visual defect or visual field loss that would affect the safe operation of a commercial motor vehicle. Mr. Rueckert reported that he has driven straight trucks for 26 years, accumulating 780,000 miles. He holds an operator's license from Washington. His driving record for the last 3 years shows no crashes and no convictions for moving violations in a CMV.

Jason C. Sadler

Mr. Sadler, 34, has had amblyopia in his left eye since birth. The visual acuity in his right eye is 20/40, and in his left eye, 20/200. Following an examination in 2013, his optometrist noted, “It is my opinion that he has sufficient vision to perform the commercial vehicle driving tasks.” Mr. Sadler reported that he has driven straight trucks for 11 years, accumulating 1.14 million miles, and tractor-trailer combinations for 11 years, accumulating 1.14 million miles. He holds a Class A CDL from Kentucky. His driving record for the last 3 years shows no crashes and no convictions for moving violations in a CMV.

Robert Schick

Mr. Schick, 51, has a superior altitudinal defect in his left eye due to a traumatic incident in 1981. The visual acuity in his right eye is 20/20, and in his left eye, 20/200. Following an examination in 2013, his ophthalmologist noted, “Patient has sufficient vision to drive a commercial vehicle.” Mr. Schick reported that he has driven straight trucks for 29 years, accumulating 754,000 miles. He holds an operator's license from Pennsylvania. His driving record for the last 3 years shows no crashes and no convictions for moving violations in a CMV.

Michael O. Thomas

Mr. Thomas, 43, has had amblyopia in his left eye since childhood. The visual acuity in his right eye is 20/20, and in his left eye, 20/200. Following an examination in 2013, his optometrist noted, “In my opinion, Mr. Thomas has sufficient vision to perform driving tasks required to operate a commercial vehicle.” Mr. Thomas reported that he has driven straight trucks for 9 years, accumulating 234,000 miles, and tractor-trailer combinations for 9 years, accumulating 234,000 miles. He holds a Class A CDL from North Carolina. His driving record for the last 3 years shows no crashes and no convictions for moving violations in a CMV.

Danielle Wilkins

Ms. Wilkins, 45, has had aphakia in her right eye since childhood. The visual acuity in her right eye is counting fingers, and in her left eye, 20/20. Following an examination in 2013, her optometrist noted, “It is found that Danielle has 150 degrees of horizontal vision in her left eye and 150 degrees of horizontal vision in her right eye. In my medical opinion, Danielle has the ability to drive a commercial vehicle.” Ms. Wilkins reported that she has driven straight trucks for 16 years, accumulating 80,000 miles. She holds an operator's license from California. Her driving record for the last 3 years shows no crashes and no convictions for moving violations in a CMV.

Request for Comments

In accordance with 49 U.S.C. 31136(e) and 31315, FMCSA requests public comment from all interested persons on the exemption petitions described in this notice. The Agency will consider all comments received before the close of business February 10, 2014. Comments will be available for examination in the docket at the location listed under the ADDRESSES section of this notice. The Agency will file comments received after the comment closing date in the public docket, and will consider them to the extent practicable.

In addition to late comments, FMCSA will also continue to file, in the public docket, relevant information that becomes available after the comment closing date. Interested persons should monitor the public docket for new material.

Submitting Comments

You may submit your comments and material online or by fax, mail, or hand delivery, but please use only one of these means. FMCSA recommends that you include your name and a mailing address, an email address, or a phone number in the body of your document so that FMCSA can contact you if there are questions regarding your submission.

To submit your comment online, go to http://www.regulations.gov and in the search box insert the docket number FMCSA-2013-0174 and click the search button. When the new screen appears, click on the blue “Comment Now!” button on the right hand side of the page. On the new page, enter information required including the specific section of this document to which each comment applies, and provide a reason for each suggestion or recommendation. If you submit your comments by mail or hand delivery, submit them in an unbound format, no larger than 8½ by 11 inches, suitable for copying and electronic filing. If you submit comments by mail and would like to know that they reached the facility, please enclose a stamped, self-addressed postcard or envelope.

We will consider all comments and material received during the comment period and may change this proposed rule based on your comments. FMCSA may issue a final rule at any time after the close of the comment period.

Viewing Comments and Documents

To view comments, as well as any documents mentioned in this preamble, To submit your comment online, go to http://www.regulations.gov and in the search box insert the docket number FMCSA-2013-0174 and click “Search.” Next, click “Open Docket Folder” and you will find all documents and comments related to the proposed rulemaking.

Issued On: December 30, 2013.
Larry W. Minor,
Associate Administrator for Policy.

[FR Doc. 2014-00231 Filed 1-9-14; 8:45 am]

BILLING CODE 4910-EX-P